DEPARTMENT OF TRANSPORTATION

Federal Aviation Administration

14 CFR Part 71

[Docket No. FAA-2020-0003; Airspace Docket No. 19-ACE-11]

RIN 2120-AA66

Amendment of VOR Federal Airways V-12, V-74, and V-516 in the Vicinity of Anthony, KS

AGENCY: Federal Aviation Administration (FAA), DOT.

ACTION: Final rule, withdrawal.

SUMMARY: The FAA inadvertently published the same final action twice, on February 23, 2021, and again on March 1, 2021. FAA is withdrawing the second, duplicate publication.

DATES: Effective March 9, 2021, FR Doc. 2021-03879, published at 86 FR 11859 (March 1, 2021), is withdrawn.

ADDRESSES: FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

History

FAA published FR Doc. 2021-02066, at 86 FR 10804, on February 23, 2021. It inadvertently re-published the same document as FR Doc. 2021-03879, at 86 FR 11859, on March 1, 2021. Therefore, FAA is withdrawing the second, duplicate document.

List of Subjects in 14 CFR Part 71

Airspace, Incorporation by reference, Navigation (air).

The Withdrawal

Accordingly, pursuant to the authority delegated to me, the final rule published in the Federal Register on March 1, 2021 (86 FR 11859), FR Doc. 2021-03879 is hereby withdrawn.

Authority: 49 U.S.C. 106(f), 106(g); 40103, 40113, 40120; E.O. 10854, 24 FR 9565, 3 CFR, 1959-1963 Comp., p. 389.

Issued in Washington, DC, on March 2, 2021.
George Gonzalez,
Acting Manager, Rules and Regulations Group.

[FR Doc. 2021-04618 Filed 3-8-21; 8:45 am]

BILLING CODE 4910-13-P